DEPARTMENT OF LABOR

Office of the Secretary

Submission for OMB Review: Comment Request

October 23, 2007.

The Department of Labor (DOL) hereby announces the submission the following public information collection requests (ICR) to the Office of Management and Budget (OMB) for review and approval in accordance with the Paperwork Reduction Act of 1995 (Pub. L. 104-13, 44 U.S.C. chapter 35). A copy of each ICR, with applicable supporting documentation; including among other things a description of the likely respondents, proposed frequency of response, and estimated total burden may be obtained from the RegInfo.gov Web site at http://www.reginfo.gov/public/do/PRAMain or by contacting Darrin King on 202-693-4129 (this is not a toll-free number)/e-mail: king.darrin@dol.gov.

Interested parties are encouraged to send comments to the Office of Information and Regulatory Affairs, Attn: Carolyn Lovett, OMB Desk Officer for the Employment Standards Administration (ESA), Office of Management and Budget, Room 10235, Washington, DC 20503, Telephone: 202-395-7316/Fax: 202-395-6974 (these are not toll-free numbers), E-mail: OIRA_submission@omb.eop.gov within 30 days from the date of this publication in the Federal Register. In order to ensure the appropriate consideration, comments should reference the OMB Control Number (see below).

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension without change of currently approved collection.

Title: Report of Construction Contractor's Wage Rates.

OMB Control Number: 1215-0046.

Form Number: WD-10.

Estimated Number of Respondents: 22,000.

Total Estimated Annual Burden Hours: 22,000.

Total Estimated Cost Burden: $0.

Affected Public: Private Sector: Business or other for-profits.

Description: The Form WD-10 is used by the U.S. Department of Labor to elicit construction project data from contractor associations, contractors and unions. The wage data is used to determine locally prevailing wages under the Davis-Bacon and Related Acts.

Agency: Employment Standards Administration.

Type of Review: Extension without change of currently approved collection.

Title: Application for Continuation of Death Benefit for Student.

OMB Control Number: 1215-0073.

Form Number: LS-266.

Estimated Number of Respondents: 43.

Total Estimated Annual Burden Hours: 22.

Total Estimated Cost Burden: $0.

Affected Public: Private Sector: Business or other for-profits.

Description: The information collected by the Form LS-266 is used by the Department's Office of Workers' Compensation Programs to assure that a claimant receives all of the benefits under the Longshore and Harbor Workers' Compensation Act (33 U.S.C. 902 and 939) to which he/she may be entitled to receive. If the information were not collected, there would be no way to determine the proper status of a student and therefore his/her continued entitlement to benefits.

Darrin A. King,
Acting Departmental Clearance Officer.

[FR Doc. E7-21182 Filed 10-25-07; 8:45 am]

BILLING CODE 4510-CF-P